DEPARTMENT OF LABOR

Employment and Training Administration

[TA-W-41,888 and TA-W-41,888A]

Jasper Cabinet Company, Jasper, IN, Jasper Cabinet Company, Ferdinand, IN; Notice of Negative Determination Regarding Application for Reconsideration

By application of January 31, 2003, the United Steelworkers of America, Sub District #3, Local Union No. 331-U, requested administrative reconsideration of the Department's negative determination regarding eligibility for workers and former workers of the subject firm to apply for Trade Adjustment Assistance (TAA). The denial notice was signed on December 23, 2002 and published in the Federal Register on January 15, 2003 (68 FR 2074).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition, filed on behalf of workers at Jasper Cabinet Company, Jasper, Indiana (TA-W-41,888) and Jasper Cabinet Company, Ferdinand, Indiana (TA-W-41,888A) engaged in the production of furniture and wood furniture parts, was denied because the “contributed importantly” group eligibility requirement of section 222(3) of the Trade Act of 1974, as amended, was not met. The “contributed importantly” test is generally demonstrated through a survey of the workers' firm's customers. The Department conducted a survey of the subject firm's major customers regarding their purchases of competitive products in 2000 through October 2002. The respondents reported no increased imports. The subject firm did not increase its reliance on imports of furniture and wood furniture parts during the relevant period.

The union alleges that a major customer imported competitive products.

Two officials from this customer were contacted in regard to this allegation. Results from ensuing conversations with these contacts revealed that the items previously purchased from the subject firm were predominately curio cabinets; as the customer ceased selling curio cabinets directly following their cessation of business with the subject firm, there are no like or directly competitive imports at issue in regard to this customer.

The petitioner also alleges that the Department did not make mention of known company imports in its initial investigation.

In fact, the initial investigation did include an examination of company imports. However, these imports did not represent a significant portion of the plants' sales or production declines in the relevant period, and therefore do not provide the necessary evidence for import impact.

Conclusion

After review of the application and investigative findings, I conclude that there has been no error or misinterpretation of the law or of the facts which would justify reconsideration of the Department of Labor's prior decision. Accordingly, the application is denied.

Signed at Washington, DC, this 15th day of April, 2003.
Edward A. Tomchick,
Director, Division of Trade Adjustment Assistance.

[FR Doc. 03-10133 Filed 4-23-03; 8:45 am]

BILLING CODE 4510-30-P